DEPARTMENT OF COMMERCE

National Oceanic and Atmospheric Administration

[I.D. 111406H]

North Pacific Fishery Management Council; Public Meeting

AGENCY: National Marine Fisheries Service (NMFS), National Oceanic and Atmospheric Administration (NOAA), Commerce.

ACTION: Notice of a council workshop.

SUMMARY: The North Pacific Fishery Management Council (Council) will hold a workshop on potential gear modification regulations as a part of the analysis for the Bering Sea Habitat Conservation analysis.

DATES: The workshop will be held on Thursday, December 7, 2006, at 6:30 p.m.

ADDRESSES: The workshop will be held at the Hilton Hotel, 500 West 3rd Avenue, in the Dillingham/Katmai Room, Anchorage, AK.

Council address: North Pacific Fishery Management Council, 605 W. 4th Ave., Suite 306, Anchorage, AK 99501-2252.

FOR FURTHER INFORMATION CONTACT: Cathy Coon, North Pacific Fishery Management Council; telephone: (907) 271-2809.

SUPPLEMENTARY INFORMATION: The purpose of the workshop will be to discuss practical issues surrounding potential requirements for trawl sweeps in Bering Sea bottom trawl fisheries. Bottom trawl gear modifications are being considered as an alternative to reduce the impacts of fishing on benthic habitat in the Bering Sea. Research has indicated that adding discs or rollers to the sweep reduces bottom contact without substantially reducing catch rates of target species. Details of a gear requirement, such as disc size, composition, spacing, attachment, and enforcement have not yet been determined. While testimony before the Council and its committees will be the venue to address whether such regulations should be pursued, this workshop provides a venue to gather practical information, identify issues relative to enforcement and implementation of potential regulations, and identify workable solutions.

Special Accommodations

This meeting is physically accessible to people with disabilities. Requests for sign language interpretation or other auxiliary aids should be directed to Gail Bendixen, (907) 271-2809, at least 5 working days prior to the meeting date.

Dated: November 15, 2006.
Tracey L. Thompson,
Acting Director, Office of Sustainable Fisheries, National Marine Fisheries Service.

[FR Doc. E6-19525 Filed 11-17-06; 8:45 am]

BILLING CODE 3510-22-S